DEPARTMENT OF ENERGY

Federal Energy Regulatory Commission

[Project Nos. 67-110 and 2175-013]

Southern California Edison Company; Notice of Petition for Declaratory Order and Soliciting Comments, Motions To Intervene, and Protests

May 4, 2006.

On April 26, 2006, Southern California Edison Company (SCE) filed a petition for a declaratory order to resolve whether a 12,000 volt substation located on the other side of Big Creek from Powerhouse Nos. 2 (part of Project No. 2175) and 2A (part of Project No. 67) is within the Commission's jurisdiction under the Federal Power Act. The projects are on Big Creek in Fresno County, California.

The petition contends that the Commission does not have jurisdiction because the 12 KV substation serves the SCE distribution system in the local area and the Commission does not license distribution facilities.

Any person desiring to be heard or to protest the petition should file comments, a protest, or a motion to intervene in accordance with the requirements of the Commission's Rules of Practice and Procedure, 18 CFR 385.210, 385.211 and 385.214. In determining the appropriate action to take, the Commission will consider all protests and other comments, but only those who file a motion to intervene may become parties to the proceeding. Comments, protests, or motions to intervene must be filed within 10 days of publication of this notice in the Federal Register and must bear in all capital letters the title “COMMENTS,” “PROTEST,” or “MOTION TO INTERVENE,” as applicable, and Project Nos. 67-110 and 2175-013.

Comments, protests, and interventions may be filed electronically via the Internet in lieu of paper. See, 18 CFR 385.2001(a)(1)(iii) and the instructions on the Commission's Web site under the “e-filing” link.

Send the filings (original and 8 copies) to: The Secretary, Federal Energy Regulatory Commission, 888 First Street, NE., Washington, DC 20426. Copies of the petition for declaratory order are on file with the Commission and are available for public inspection in Room 2A and may also be viewed on the Web at http://www.ferc.gov/onlinerims.htm. For assistance, call (202) 502-8222 or for TTY, (202) 208-1659.

Magalie R. Salas,
Secretary.

[FR Doc. E6-7168 Filed 5-10-06; 8:45 am]

BILLING CODE 6717-01-P